FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202)-523-5793 or tradeanalysis@fmc.gov.

Agreement No.: 201360-001.

Agreement Name: CMA CGM/COSCO Central America and Caribbean—U.S. Gulf Vessel Sharing Agreement.

Parties: CMA CGM S.A. and COSCO SHIPPING Lines Co., Ltd.

Filing Party: William Campbell; CMA CGM (America) LLC.

Synopsis: The amendment updates the term of the Agreement.

Proposed Effective Date: 5/13/2022.

Location: https://www2.fmc.gov/FMC.Agreements.Web/Public/AgreementHistory/43502.

Agreement No.: 201381.

Agreement Name: WHL/HLAG Slot Charter Agreement.

Parties: Wan Hai Lines Ltd. and Wang Hai Lines (Singapore) Pte. Ltd. (acting as a single party) and Hapag-Lloyd AG.

Filing Party: Wayne Rohde; Cozen O'Connor.

Synopsis: The Agreement authorizes WHL to charter space to HLAG in the trade from China, Taiwan, Vietnam, Singapore and Malaysia to the U.S. East Coast.

Proposed Effective Date: 5/13/2022.

Location: https://www2.fmc.gov/FMC.Agreements.Web/Public/AgreementHistory/60503.

Dated: April 1, 2022.
William Cody,
Secretary.

[FR Doc. 2022-07231 Filed 4-5-22; 8:45 am]

BILLING CODE 6730-02-P